DEPARTMENT OF DEFENSE

Department of the Army

[Docket ID: USA-2010-0003]

Privacy Act of 1974; System of Records

AGENCY: Department of the Army, DoD.

ACTION: Notice to alter a system of records.

SUMMARY: Department of the Army proposes to alter a system of records notices in its existing inventory of record systems subject to the Privacy Act of 1974, (5 U.S.C. 552a), as amended.

DATES: This proposed action will be effective without further notice on May 24, 2010 unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones at (703) 428-6185.

SUPPLEMENTARY INFORMATION: Department of the Army notices for systems of records subject to the Privacy Act of 1974 (5 U.S.C. 552a), as amended, have been published in the Federal Register and are available from the Department of the Army, Privacy Office, U.S. Army Records Management and Declassification Agency, 7701 Telegraph Road, Casey Building, Suite 144, Alexandria, VA 22325-3905.

The proposed system report, as required by 5 U.S.C. 552a(r) of the Privacy Act of 1974, as amended, was submitted on April 9, 2010, to the House Committee on Government Reform, the Senate Committee on Homeland Security and Governmental Affairs, and the Office of Management and Budget (OMB) pursuant to paragraph 4c of Appendix I to OMB Circular No. A-130, “Federal Agency Responsibilities for Maintaining Records About Individuals” (February 20, 1996; 61 FR 6427).

Dated: April 19, 2010.
Mitchell S. Bryman,
Alternate OSD Federal Register Liaison Officer, Department of Defense.

A0351-17b USMA

System name:

U.S. Military Academy Personnel Cadet Records (August 9, 1996; 61 FR 41595).

* * * * *

Changes:

System name:

Delete entry and replace with “U.S. Military Academy Management System Records.”

* * * * *

Categories of individuals covered by the system:

Delete entry and replace with “Present and former cadets and faculty of the U.S. Military Academy.”

Categories of records in the system:

Delete entry and replace with “Name, Social Security Number (SSN), military status, application and evaluations of cadet for admission; letters of recommendation/endorsement; academic achievements, awards, honors, grades, and transcripts; performance counseling; health, physical aptitude and abilities and athletic accomplishments, peer appraisals; supervisory assessments; suitability data, including honor code infractions and disposition. Basic biographical and historical summary of cadet's tenure at the U.S. Military Academy is maintained on cards in the Archives Office or on microfiche in the Cadet Records Section and as part of the system electronic backup. Academic contribution data (courses taught, research papers published, cadet activities supported) of faculty members is maintained.”

* * * * *

Purpose(s):

Delete entry and replace with “To record cadets appointment to the Academy, his/her scholastic and athletic achievements, performance, motivation, discipline, final standing, and potential as a military career officer. Also used to document faculty contributions as part of the academic and cadet development mission.”

Routine uses of records maintained in the system, including categories of users and the purposes of such uses:

Delete entry and replace with “In addition to those disclosures generally permitted under 5 U.S.C. 552a(b) of the Privacy Act of 1974, these records contained therein may specifically be disclosed outside the DoD as a routine use pursuant to 5 U.S.C. 552a(b)(3) as follows:

Academic transcripts may be provided to educational institutions for the purpose of admissions to further educational degree programs.

The DoD `Blanket Routine Uses' set forth at the beginning of the Army's compilation of systems of records notices also apply to this system.

* * * * *

Storage:

Delete entry and replace with “Manual records in file folders and electronic storage media.”

* * * * *

Safeguards:

Delete entry and replace with “Electronically and optically stored records are maintained in `fail-safe' system software with password-protected access. Records are accessible only to authorized persons with a need-to-know who are properly screened, cleared and trained. Access is controlled through role based controls leveraging active directory authentication. Buildings employ alarms or rooms are security-controlled areas accessible only to authorized persons. Paper and electronic records are maintained in approved security containers. Paper and electronic records in the U.S. Army Investigative Records Repository are stored in security-controlled areas accessible only to authorized persons. Use of Common Access Card (CAC) is used to authenticate and lock out unauthorized access.”

Retention and disposal:

Delete entry and replace with “Records of cadets who are commissioned become part of his/her Official Military Personnel File. Records of individuals not commissioned are destroyed after 5 years. Microfilmed and electronic records maintained by U.S. Military Academy are permanent; hard copy files are destroyed after being microfilmed. Contribution data on faculty is permanently maintained.”

System manager(s) and address:

Delete entry and replace with “Chief, Software Engineering Branch, U.S. Military Academy, West Point, NY 10996-5000.”

Notification procedure:

Delete entry and replace with “Individuals seeking to determine whether information about themselves is contained in this system of records should address written inquiries to the Superintendent, U.S. Military Academy, West Point, NY 10996-5000.

Individual should provide full name, Social Security Number (SSN) and military status or other information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking access to information about themselves contained in this system of records should address written inquiries to the Superintendent, U.S. Military Academy, West Point, NY 10996-5000.

Individual should provide full name, Social Security Number (SSN) and military status or other information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

* * * * *

A0351-17b USMA

System name:

U.S. Military Academy Management System Records.

System location:

U.S. Military Academy, West Point, NY 10996-5000.

Categories of individuals covered by the system:

Present and former cadets and faculty of the U.S. Military Academy.

Categories of records in the system:

Name, Social Security Number (SSN), military status, application and evaluations of cadet for admission; letters of recommendation/endorsement; academic achievements, awards, honors, grades, and transcripts; performance counseling; health, physical aptitude and abilities and athletic accomplishments, peer appraisals; supervisory assessments; suitability data, including honor code infractions and disposition. Basic biographical and historical summary of cadet's tenure at the U.S. Military Academy is maintained on cards in the Archives Office or on microfiche in the Cadet Records Section and as part of the system electronic backup. Academic contribution data (courses taught, research papers published, cadet activities supported) of faculty members is maintained.

Authority for maintenance of the system:

10 U.S.C. 3013, Secretary of the Army; 10 U.S.C. 4334, Command and Supervision and E.O. 9397 (SSN), as amended.

Purpose(s):

To record cadet's appointment to the Academy, his/her scholastic and athletic achievements, performance, motivation, discipline, final standing and potential as a military career officer. Also used to document faculty contributions as part of the academic and cadet development mission.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

Academic transcripts may be provided to educational institutions for the purpose of admissions to further educational degree programs.

The `Blanket Routine Uses' set forth at the beginning of the Army's compilation of systems of records notices also apply to this system.

Policies and practices for storing, retrieving, accessing, retaining, and disposing of records in the system:

Storage:

Manual records in file folders and electronic storage media.

Retrievability:

By surname or Social Security Number (SSN).

Safeguards:

Electronically and optically stored records are maintained in `fail-safe' system software with password-protected access. Records are accessible only to authorized persons with a need-to-know who are properly screened, cleared and trained. Access is controlled through role-based controls leveraging active directory authentication. Buildings employ alarms or rooms are security-controlled areas accessible only to authorized persons. Paper and electronic records are maintained in approved security containers. Paper and electronic records in the U.S. Army Investigative Records Repository are stored in security-controlled areas accessible only to authorized persons. Use of Common Access Card (CAC) is used to authenticate and lock out unauthorized access.

Retention and disposal:

Records of cadets who are commissioned become part of his/her Official Military Personnel File. Records of individuals not commissioned are destroyed after 5 years. Microfilmed and electronic records maintained by USMA are permanent; hard copy files are destroyed after being microfilmed. Contribution data on faculty is permanently maintained.

System manager(s) and address:

Chief, Software Engineering Branch, U.S. Military Academy, West Point, NY 10996-5000.

Notification procedure:

Individuals seeking to determine whether information about themselves is contained in this system of records should address written inquiries to the Superintendent, U.S. Military Academy, West Point, NY 10996-5000.

Individual should provide full name, Social Security Number (SSN) and military status or other information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Record access procedures:

Individuals seeking access to information about themselves contained in this system of records should address written inquiries to the Superintendent, U.S. Military Academy, West Point, NY 10996-5000.

Individual should provide full name, Social Security Number (SSN) and military status or other information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Contesting record procedures:

The Army's rules for accessing records, and for contesting contents and appealing initial agency determinations are contained in Army Regulation 340-21; 32 CFR part 505; or may be obtained from the system manager.

Record source categories:

From the individual, his/her sponsors, peer evaluations, grades and reports of U.S. Military Academy academic and physical education department heads, transcripts from other educational institutions, medical examination/assessments, supervisory counseling/performance reports.

Exemptions claimed for the system:

Investigatory material compiled solely for the purpose of determining suitability, eligibility, or qualifications for Federal civilian employment, military service, Federal contracts, or access to classified information may be exempt pursuant to 5 U.S.C. 552a(k)(5), but only to the extent that such material would reveal the identity of a confidential source.

Evaluation material used to determine potential for promotion in the Military Services may be exempt pursuant to 5 U.S.C. 552a(k)(7), but only to the extent that the disclosure of such material would reveal the identity of a confidential source.

An exemption rule for this record system has been promulgated in accordance with the requirements of 5 U.S.C. 553(b)(1), (2), and (3), (c) and (e) and published in 32 CFR part 505. For additional information contact the system manager.

[FR Doc. 2010-9390 Filed 4-22-10; 8:45 am]

BILLING CODE 5001-06-P